ENVIRONMENTAL PROTECTION AGENCY

40 CFR Part 52

[EPA-R10-OAR-2024-0433: FRL-12248-02-R10]

Air Plan Approval; Washington; Spokane Regional Clean Air Agency, General Air Quality Regulations

AGENCY: Environmental Protection Agency (EPA).

ACTION: Final rule.

SUMMARY: The Environmental Protection Agency (EPA) is approving revisions to the Washington State Implementation Plan (SIP) that were submitted by the Department of Ecology (Ecology) in coordination with the Spokane Regional Clean Air Agency (SRCAA). In 2021, the EPA approved a comprehensive update to the SRCAA general air quality regulations in the SIP, which include new source review permitting requirements as well as other general requirements for sources regulated under SRCAA's jurisdiction. In this action, the EPA is approving additional updates to the SRCAA general air quality regulations promulgated since our comprehensive approval in 2021.

DATES: This final rule is effective May 16, 2025.

ADDRESSES: The EPA has established a docket for this action under Docket ID No. EPA-R10-OAR-2024-0433. All documents in the docket are listed on the https://www.regulations.gov website. Although listed in the index, some information is not publicly available, e.g., Confidential Business Information or other information the disclosure of which is restricted by statute. Certain other material, such as copyrighted material, is not placed on the internet and will be publicly available only in hard copy form. Publicly available docket materials are available at https://www.regulations.gov, or please contact the person listed in the FOR FURTHER INFORMATION CONTACT section for additional availability information.

FOR FURTHER INFORMATION CONTACT: Jeff Hunt, EPA Region 10, 1200 Sixth Avenue, Suite 155, Seattle, WA 98101, at (206) 553-0256 or hunt.jeff@epa.gov.

SUPPLEMENTARY INFORMATION: Throughout this document, wherever “we” or “our” is used, it means the EPA.

I. Background

On November 14, 2024, the EPA proposed to approve minor revisions to the Spokane Regional Clean Air Agency general air quality regulations (89 FR 89942). The reasons for our proposed action are included in the proposal and will not be restated here. The public comment period closed on December 16, 2024. We received no comments on our proposed approval.

II. Final Action

A. Revisions to the Incorporation by Reference Section of the SIP

The EPA is approving and incorporating by reference into the Washington SIP at 40 CFR 52.2470(c)—Table 9—Additional Regulations Approved for the Spokane Regional Clean Air Agency (SRCAA) Jurisdiction, the following updated sections of Spokane Regional Clean Air Agency Regulation I, State effective July 15, 2023:

• 1.01, Policy, establishing the policy of the agency;

• 1.04, Definitions, establishing definitions used throughout Regulation I;

• 2.08, Falsification of Statements or Documents, and Treatment of Documents, establishing enforceable standards for the treatment of documents;

• 2.13, Federal and State Regulation Reference Date, adopting certain Federal and State regulatory provisions by reference;

• 4.04, Stationary Sources and Source Categories Subject to Registration, establishing which facilities are subject to permitting or other agency requirements;

• 5.02, New Source Review—Applicability and when Required, establishing when a permit is necessary for construction or modification of a source;

• 5.04, Information Required, establishing what information is necessary in applying for permits or other agency actions;

• 5.05, Public Involvement, establishing public involvement procedures for agency actions;

• 5.07, Processing NOC Applications for Stationary Sources, establishing agency procedures under the new source review program;

• 5.08, Portable Sources, establishing requirements and agency procedures for movable sources;

• 5.10, Changes to an Order of Approval or Permission to Operate, establishing requirements and procedures for permit modifications;

• 5.13, Order of Approval Construction Time Limits, establishing time limits and procedures for construction or modification of a stationary source;

• 6.04, Emission of Air Contaminant: Detriment to Person or Property, establishing emissions standards for public protection;

• 8.01, Purpose, establishing the purpose of Article VIII to address emissions from solid fuel burning devices;

• 8.02, Applicability, establishing the applicability of Article VIII provisions;

• 8.03, Definitions, establishing additional definitions used in Article VIII;

• 8.04, Emission Performance Standards, establishing standards for solid fuel burning devices;

• 8.05, Opacity Standards, establishing opacity standards for solid fuel burning devices;

• 8.06, Prohibited Fuel Types, standards to prevent the burning of refuse or other prohibited items in a solid fuel burning device;

• 8.07, Curtailment, establishing requirements and procedures for when solid fuel burning devices can be used;

• 8.08, Exemptions, providing exemptions to certain Article VIII requirements;

• 8.09, Procedure to Geographically Limit Solid Fuel Burning Devices, additional contingency measures should the Spokane area experience air quality violations; and

• 8.10, Restrictions on Installation of Solid Fuel Burning Devices, provisions banning the installation or sale of uncertified solid fuel burning devices.

B. Approved But Not Incorporated by Reference Regulations

In addition to the regulations approved and incorporated by reference in section II.A. of this preamble, the EPA reviews and approves State and local air agency submissions to ensure they provide adequate enforcement authority and other general authority to implement and enforce the SIP. However, regulations describing such agency enforcement and other general authority are generally not incorporated by reference so as to avoid potential conflict with the EPA's independent authorities. Therefore, we are approving but not incorporating by reference the submitted revisions, effective July 15, 2023, to SRCAA Regulation I, sections 2.01, 2.03, 2.04, 2.05, 2.11, 2.12, and 8.11 in 40 CFR 52.2470(e), EPA Approved Nonregulatory Provisions and Quasi-Regulatory Measures.

III. Incorporation by Reference

In this document, the EPA is finalizing regulatory text that includes incorporation by reference. In accordance with requirements of 1 CFR 51.5, we are finalizing the incorporation by reference of SRCAA Regulation I revisions, State effective July 15, 2023, as described in section II of this preamble and set forth in the amendments to 40 CFR part 52 in this document. The EPA has made, and will continue to make, these materials generally available through https://www.regulations.gov and at the EPA Region 10 Office (please contact the person identified in the FOR FURTHER INFORMATION CONTACT section of this preamble for more information). Therefore, these materials have been approved by the EPA for inclusion in the SIP, have been incorporated by reference by the EPA into that plan, are fully federally enforceable under sections 110 and 113 of the Clean Air Act as of the effective date of the final rule of the EPA's approval, and will be incorporated by reference in the next update to the SIP compilation.¹

¹ 62 FR 27968 (May 22, 1997).

IV. Statutory and Executive Order Reviews

Under the Clean Air Act, the Administrator is required to approve a SIP submission that complies with the provisions of the Clean Air Act and applicable Federal regulations. 42 U.S.C. 7410(k); 40 CFR 52.02(a). Thus, in reviewing SIP submissions, the EPA's role is to approve State choices, provided that they meet the criteria of the Clean Air Act. Accordingly, this action merely approves State law as meeting Federal requirements and does not impose additional requirements beyond those imposed by State law. For that reason, this action:

• Is not a significant regulatory action subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, this action is not approved to apply on any Indian reservation land or in any other area where the EPA or an Indian Tribe has demonstrated that a Tribe has jurisdiction. In those areas of Indian country, the rule does not have Tribal implications and will not impose substantial direct costs on Tribal Governments or preempt Tribal law as specified by Executive Order 13175 (65 FR 67249, November 9, 2000).

This action is subject to the Congressional Review Act, and the EPA will submit a rule report to each House of the Congress and to the Comptroller General of the United States. This action is not a “major rule” as defined by 5 U.S.C. 804(2). Under section 307(b)(1) of the Clean Air Act, petitions for judicial review of this action must be filed in the United States Court of Appeals for the appropriate circuit by June 16, 2025. Filing a petition for reconsideration by the Administrator of this final rule does not affect the finality of this action for the purposes of judicial review nor does it extend the time within which a petition for judicial review may be filed and shall not postpone the effectiveness of such rule or action. This action may not be challenged later in proceedings to enforce its requirements. See section 307(b)(2).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: April 4, 2025.
Emma Pokon,
Regional Administrator, Region 10.

For the reasons stated in the preamble, the Environmental Protection Agency amends part 52 of chapter I, title 40 of the Code of Federal Regulations to read as follows:

PART 52—APPROVAL AND PROMULGATION OF IMPLEMENTATION PLANS

1. The authority citation for part 52 continues to read as follows:

Authority: 42 U.S.C. 7401 et seq.

Subpart WW—Washington

2. In § 52.2470:

a. Amend paragraph (c), table 9, under the heading “Spokane Regional Clean Air Agency Regulation I”, by revising the entries “1.01”, “1.04”, “2.08”, “2.13”, “4.04”, “5.02”, “5.04”, “5.05”, “5.07”, “5.08”, “5.10”, “5.13”, “6.04”, and revising all the entries under the heading “Article VIII—Solid Fuel Burning Device Standards”; and

b. Amend paragraph (e), table 1, under the heading “Spokane Regional Clean Air Agency Regulations”, by revising the entries “2.01”, “2.03”, “2.04”, “2.05”, “2.11”, “2.12”, and “8.11”.

The revisions read as follows:

§ 52.2470 Identification of plan.

* * * * *

(c) * * *

Table 9—Additional Regulations Approved for the Spokane Regional Clean Air Agency (SRCAA) Jurisdiction
[Applicable in Spokane county, excluding facilities subject to Energy Facilities Site Evaluation Council (EFSEC) jurisdiction; facilities subject to the Washington Department of Ecology's direct jurisdiction under Chapters 173-405, 173-410, and 173-415 Washington Administrative Code (WAC); Indian reservations; any other area where the EPA or an Indian tribe has demonstrated that a tribe has jurisdiction; and the Prevention of Significant Deterioration (PSD) permitting of facilities subject to the applicability sections of WAC 173-400-700.]
State/local citation | Title/subject | State/local effective date | EPA approval date | Explanations
Spokane Regional Clean Air Agency Regulation I
Article I—Policy, Short Title, and Definitions
1.01 | Policy | 7/15/23 | 4/16/25, 90 FR [INSERT FEDERAL REGISTER PAGE WHERE THE DOCUMENT BEGINS] | Subsections (A) and (B) replace WAC 173-400-010.
* * * * * * *
1.04 | General Definitions | 7/15/23 | 4/16/25, 90 FR [INSERT FEDERAL REGISTER PAGE WHERE THE DOCUMENT BEGINS] | Except subsections (17), (41), (52), (60), (74), (101), (112), (119), and (122). Section 1.04 replaces WAC 173-400-030 except the following WAC 173-400-030 definitions adopted by reference in subsection 2.14(A)(1): Adverse Impact on Visibility; Capacity Factor; Class I Area; Dispersion Technique; Emission Threshold; Excess Stack Height; Existing Stationary Facility; Federal Class I Area; Federal Land Manager; Fossil Fuel-fired Steam Generator; General Process Unit; Greenhouse Gases; Industrial Furnace; Mandatory Class I Federal Area; Natural Conditions; Projected Width; Reasonably Attributable; Sulfuric Acid Plant; and Wood Waste.
* * * * * * *
Article II—General Provisions
2.08 | Falsification of Statements or Documents, and Treatment of Documents | 7/15/23 | 4/16/25, 90 FR [INSERT FEDERAL REGISTER PAGE WHERE THE DOCUMENT BEGINS] | Subsection (E) replaces WAC 173-400-105(6). Subsection (F) replaces WAC 173-400-105(8).
* * * * * * *
2.13 | Federal and State Regulation Reference Date | 7/15/23 | 4/16/25, 90 FR [INSERT FEDERAL REGISTER PAGE WHERE THE DOCUMENT BEGINS] | Subsection (A) replaces WAC 173-400-025.
* * * * * * *
Article IV—Registration
* * * * * * *
4.04 | Stationary Sources and Source Categories Subject to Registration | 7/15/23 | 4/16/25, 90 FR [INSERT FEDERAL REGISTER PAGE WHERE THE DOCUMENT BEGINS] | Except subsection (A)(5)(b) and any other provision as it relates to the regulation of toxic air pollutants or odors.
* * * * * * *
Article V—New Source Review for Stationary Sources and Portable Sources
5.02 | New Source Review—Applicability and when Required | 7/15/23 | 4/16/25, 90 FR [INSERT FEDERAL REGISTER PAGE WHERE THE DOCUMENT BEGINS] | Except subsections (C)(5), (I)(1)(a), and any other provision as they relates to the regulation of toxic air pollutants or odors. Section 5.02 replaces WAC 173-400-110. Subsection (F) replaces WAC 173-400-111(2).
* * * * * * *
5.04 | Information Required | 7/15/23 | 4/16/25, 90 FR [INSERT FEDERAL REGISTER PAGE WHERE THE DOCUMENT BEGINS] | Except subsection (A)(8). Collectively, sections 5.04, 5.06, 5.07, 5.10, 5.13, and 5.14 replace the permitting procedures in WAC 173-400-111.
5.05 | Public Involvement | 7/15/23 | 4/16/25, 90 FR [INSERT FEDERAL REGISTER PAGE WHERE THE DOCUMENT BEGINS] | Except subsection (C)(15). Section 5.05 replaces WAC 173-400-171.
* * * * * * *
5.07 | Processing NOC Applications for Stationary Sources | 7/15/23 | 4/16/25, 90 FR [INSERT FEDERAL REGISTER PAGE WHERE THE DOCUMENT BEGINS] | Except subsections (A)(1)(g) and (B). Collectively, sections 5.04, 5.06, 5.07, 5.10, 5.13, and 5.14 replace the permitting procedures in WAC 173-400-111, and subsection 5.07(A)(7) replaces WAC 173-400-110(2)(a).
5.08 | Portable Sources | 7/15/23 | 4/16/25, 90 FR [INSERT FEDERAL REGISTER PAGE WHERE THE DOCUMENT BEGINS] | Except subsection (A)(6). Section 5.08 replaces WAC 173-400-036.
* * * * * * *
5.10 | Changes to an Order of Approval or Permission to Operate | 7/15/23 | 4/16/25, 90 FR [INSERT FEDERAL REGISTER PAGE WHERE THE DOCUMENT BEGINS] | Collectively, sections 5.04, 5.06, 5.07, 5.10, 5.13, and 5.14 replace the permitting procedures in WAC 173-400-111.
* * * * * * *
5.13 | Order of Approval Construction Time Limits | 7/15/23 | 4/16/25, 90 FR [INSERT FEDERAL REGISTER PAGE WHERE THE DOCUMENT BEGINS] | Collectively, sections 5.04, 5.06, 5.07, 5.10, 5.13, and 5.14 replace the permitting procedures in WAC 173-400-111.
* * * * * * *
Article VI—Emissions Prohibited
6.04 | Emission of Air Contaminant: Detriment to Person or Property | 7/15/23 | 4/16/25, 90 FR [INSERT FEDERAL REGISTER PAGE WHERE THE DOCUMENT BEGINS] | Subsections (A), (B), (C), and (H) only and excepting provisions in RCW 70A.15.4530 (incorporated by reference) that relate to odor. Subsection (C) replaces WAC 173-400-040(6).
* * * * * * *
Article VIII—Solid Fuel Burning Device Standards
8.01 | Purpose | 7/15/23 | 4/16/25, 90 FR [INSERT FEDERAL REGISTER PAGE WHERE THE DOCUMENT BEGINS]
8.02 | Applicability | 7/15/23 | 4/16/25, 90 FR [INSERT FEDERAL REGISTER PAGE WHERE THE DOCUMENT BEGINS]
8.03 | Definitions | 7/15/23 | 4/16/25, 90 FR [INSERT FEDERAL REGISTER PAGE WHERE THE DOCUMENT BEGINS] | Except subsection (A)(6).
8.04 | Emission Performance Standards | 7/15/23 | 4/16/25, 90 FR [INSERT FEDERAL REGISTER PAGE WHERE THE DOCUMENT BEGINS] | Except the incorporation by reference of WAC 173-433-130, 173-433-170, and 173-433-200.
8.05 | Opacity Standards | 7/15/23 | 4/16/25, 90 FR [INSERT FEDERAL REGISTER PAGE WHERE THE DOCUMENT BEGINS]
8.06 | Prohibited Fuel Types | 7/15/23 | 4/16/25, 90 FR [INSERT FEDERAL REGISTER PAGE WHERE THE DOCUMENT BEGINS]
8.07 | Curtailment | 7/15/23 | 4/16/25, 90 FR [INSERT FEDERAL REGISTER PAGE WHERE THE DOCUMENT BEGINS]
8.08 | Exemptions | 7/15/23 | 4/16/25, 90 FR [INSERT FEDERAL REGISTER PAGE WHERE THE DOCUMENT BEGINS] | Except subsection (A)(4).
8.09 | Procedure to Geographically Limit Solid Fuel Burning Devices | 7/15/23 | 4/16/25, 90 FR [INSERT FEDERAL REGISTER PAGE WHERE THE DOCUMENT BEGINS]
8.10 | Restrictions on Installation of Solid Fuel Burning Devices | 7/15/23 | 4/16/25, 90 FR [INSERT FEDERAL REGISTER PAGE WHERE THE DOCUMENT BEGINS]
* * * * * * *

* * * * *

(e) * * *

Table 1—Approved But Not Incorporated by Reference Regulations
State/local citation | Title/subject | State/local effective date | EPA approval date | Explanations
* * * * * * *
Spokane Regional Clean Air Agency Regulations
2.01 | Powers and Duties of the Board | 7/15/23 | 4/16/25, 90 FR [INSERT FEDERAL REGISTER PAGE WHERE THE DOCUMENT BEGINS]
2.02 | Control Officer's Duties and Powers | 9/1/20 | 5/10/21, 86 FR 24718 | Section 2.02(E) replaces WAC 173-400-105(3).
2.03 | Confidential or Proprietary Information | 7/15/23 | 4/16/25, 90 FR [INSERT FEDERAL REGISTER PAGE WHERE THE DOCUMENT BEGINS]
2.04 | Violations | 7/15/23 | 4/16/25, 90 FR [INSERT FEDERAL REGISTER PAGE WHERE THE DOCUMENT BEGINS] | Replaces WAC 173-400-230(1)&(6).
2.05 | Orders and Hearings | 7/15/23 | 4/16/25, 90 FR [INSERT FEDERAL REGISTER PAGE WHERE THE DOCUMENT BEGINS]
2.06 | Appeal of Board Orders | 9/1/20 | 5/10/21, 86 FR 24718 | Replaces WAC 173-400-250.
2.10 | Severability | 9/1/20 | 5/10/21, 86 FR 24718
2.11 | Penalties, Civil Penalties, and Additional Means for Enforcement | 7/15/23 | 4/16/25, 90 FR [INSERT FEDERAL REGISTER PAGE WHERE THE DOCUMENT BEGINS] | Replaces WAC 173-400-230(2)&(3).
2.12 | Restraining Orders—Injunctions | 7/15/23 | 4/16/25, 90 FR [INSERT FEDERAL REGISTER PAGE WHERE THE DOCUMENT BEGINS] | Replaces WAC 173-400-230(4).
8.11 | Regulatory Actions and Penalties | 7/15/23 | 4/16/25, 90 FR [INSERT FEDERAL REGISTER PAGE WHERE THE DOCUMENT BEGINS]
* * * * * * *

* * * * *

[FR Doc. 2025-06247 Filed 4-15-25; 8:45 am]

BILLING CODE 6560-50-P